ENVIRONMENTAL PROTECTION AGENCY

[ER-FRL-6694-4]

Environmental Impacts Statements; Notice of Availability

Responsible Agency: Office of Federal Activities, General Information (202) 564-7167 or http://www.epa.gov/compliance/nepa/.

Weekly receipt of Environmental Impact Statements

Filed 12/17/2007 through 12/21/2007

Pursuant to 40 CFR 1506.9.

EIS No. 20070536, Draft EIS, AFS, 00, National Forest System Lands in Utah Wild and Scenic River Suitability Study for 86 Eligible River Segments for Inclusion in the National Wild and Scenic River System, Ashley, Dixie, Fishlake, Manti-LaSal, Uinta, Wasatch-Cache National Forests in Utah and Portions of National Forests in Colorado and Wyoming, Comment Period Ends: 02/15/2008, Contact: Catherine Kahlow 435-783-4338.

This document is available on the Internet at: http://www.fs.fed.us/r4/rivers/deis_wsr.shtml.

EIS No. 20070537, Draft EIS, AFS, NM, Perk-Grindstone Fuel Reduction Project, To Protect Life, Property, and Natural Resources, Village of Ruidoso, Lincoln National Forest, Lincoln County, New Mexico, Comment Period Ends: 02/11/2008, Contact: Buck Sanchez 505-885-4181.

This document is available on the Internet at http://www.fs.fed.us/r3/lincoln/Projects/index.shtml.

EIS No. 20070538, Draft EIS, COE, NC, North Topsail Beach Shoreline Protection Project, Seeking Federal and State Permits to Allow Implementation of a Non-Federal Shoreline and Inlet Management Project, New River Inlet, Onslow County, NC, Comment Period Ends: 02/11/2008, Contact: Mickey T. Sugg 910-251-4811.

EIS No. 20070539, Final EIS, SFW, CA, Programmatic—South Bay Salt Pond Restoration Project, Restored Tidal Marsh, Managed Ponds, Flood Control Measures and Public Access Features, Don Edward San Francisco Bay National Wildlife Refuge, Alameda, Santa Clara and San Mateo Counties, CA, Wait Period Ends: 01/28/2008, Contact: Mendel Stewart 510-792-4275 Ext. 23.

EIS No. 20070540, Draft EIS, NOA, 00, Amendment 1 to the Tilefish Fishery Management Plan, Proposed Individual Fishing Quota (IFQ) Program, To Reduce Overcapacity in the Commercial Tilefish Fishery, Maine to North Carolina, Comment Period Ends: 02/11/2008, Contact: Patricia A. Kurkul 978-281-9200.

EIS No. 20070541, Draft Supplement, NOA, AK, Cook Inlet Beluga Whale Subsistence Harvest Project, Proposes to Implement a Long-Term Harvest Plan and Fulfill the Federal Government's Trust Responsibility, Cook Inlet, AK, Comment Period Ends: 02/11/2008, Contact: Barbara Mahoney 907-271-3448.

EIS No. 20070542, Revised Draft EIS, BLM, WY, Pinedale Anticline Oil and Gas Exploration and Development Project, Additional Information on Two New Alternatives, Consolidated Development with Year-Round Development (Construction, Drilling, Completion, and Production), Sublette County, WY , Comment Period Ends: 02/11/2008, Contact:Caleb Hiner 307-367-5352.

EIS No. 20070543, Final EIS, AFS, 00, Sierra Nevada Forests Management Indicator Species Amendment (MIS), Proposes to Adopt a Common List of Management Indicator Species (MIS), and Amending Land & Resource Management Plans for Following Ten Forests: Eldorado, Inyo, Lassen, Modoc, Plumas, Sequoia, Sierra, Stanislaus and Tahoe National Forests and Lake Tahoe Basin Management Unit, Several Counties, CA and Douglas, Esmeralda, Mineral Counties, NV, Wait Period Ends: 01/08/2008, Contact: Diana Craig 707-562-8737.

EIS No. 20070544, Final EIS, AFS, OR, Invasive Plant Treatments within the Deschutes and Ochoco National Forests and the Crooked River National Grassland, Reduction of Invasive Plant Infestation and Protection of Uninfested Areas, Implementation, Several Cos. OR, Wait Period Ends: 02/11/2008, Contact: Beth Peer 541-383-5300.

EIS No. 20070545, Draft EIS, IBR, ND, Northwest Area Water Supply Project, To Construct a Biota Water Treatment Plant, Lake Sakakawea, Missouri River Basin to Hudson Bay Basin, ND, Comment Period Ends: 02/11/2008, Contact: Alice Waters 701-221-1206.

EIS No. 20070546, Final EIS, IBR, 00, Red River Valley Water Supply Project, Development and Delivery of a Bulk Water Supply to meet Long-Term Water Needs of the Red River Valley, Implementation, ND and MN, Wait Period Ends:01/28/2008, Contact: Todd Dixon 202-513-0675.

Amended Notices

EIS No. 20070416, Draft EIS, BLM, WY,Moxa Arch Area Infill Gas Development Project, Drill, Extract, Remove, and Market Natural Gas Under Valid Existing Oil and Gas Leases, Approval, Right-of-Way Grants and U.S. Army COE Section 404 Permit(s), Lincoln, Uinta and Sweetwater Counties, WY, Comment Period Ends: 01/10/2008, Contact: Michele Easley 307-828-4524.

Revision of FR Notice Published 10/12/2007: Extending Comment Period from 12/11/2007 to 01/10/2008.

Dated: December 21, 2007.
Ken Mittelholtz,
Environmental Protection Specialist, Office of Federal Activities.

[FR Doc. E7-25194 Filed 12-27-07; 8:45 am]

BILLING CODE 6560-50-P